ENVIRONMENTAL PROTECTION AGENCY

[ER-FRL-8584-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20060490, ERP No. D-OSM-K65321-00, Black Mesa Project, Revisions to the Life-of-Mine Operation and Reclamation for the Kayenta and Black Mesa Surface-Coal Mining Operations, Right-of-Way Grant, Mohave, Navajo, Coconino and Yavapai Counties, AZ and Clark County, NV.

Summary: EPA expressed environmental concerns because the Draft EIS does not identify a specific product delivery/customer use scenario for the new preferred alternative, discuss how the environmental impacts of future coal delivery/customer use scenarios will be analyzed, or describe greenhouse gas emissions from the proposed project. Rating EC2.

EIS No. 20080154, ERP No. D-FHW-D40342-MD, U.S. 50 Crossing Study, Transportation Improvement from MD 611 to MD 378; and 3rd Street to Somerset Street, Funding, U.S. Coast Guard, U.S. Army COE Section 10 and 404 Permits, Worcester County, MD.

Summary: EPA expressed environmental concerns about dredging and impacts to bird habitat. Rating EC1.

EIS No. 20080162, ERP No. D-FRC-D03016-MD, Sparrows Point Liquefied Natural Gas (LNG) Import Terminal Expansion and Natural Gas Pipeline Facilities, Construction and Operation, Application Authorization, U.S. COE section 10 and 404 Permits, Baltimore County, MD.

Summary: EPA expressed environmental concerns about the potential impacts associated with the proposed terminal. In particular, EPA expressed concerns about the potential water quality impacts associated with the proposed dredging for the terminal and noted that the Draft EIS did not contain sufficient information to fully assess the project's impacts. Rating EC2.

EIS No. 20080165, ERP No. D-FHW-L59003-00, Interstate 5 Columbia River Crossing Project, Bridge, Transit, and Highway Improvements, from State Route 500 in Vancouver, WA to Columbia Boulevard in Portland, OR, Funding, U.S. COE section 10 & 404 Permits, NPDES Permit.

Summary: EPA expressed environmental concerns about the potential impacts to the Troutdale Sole Source Aquifer, environmental justice, and aquatic resources impacts, and requested additional analysis for project related air quality impacts be included in the FEIS. Rating EC2.

EIS No. 20080203, ERP No. D-UCG-A99225-00, Dry Cargo Residue (DCR) Discharges in the Great Lakes, To Regulate Nonhazardous and Nontoxic DRC Sweeping from Vessels in the Great Lakes that Fall under the Jurisdiction of the United States.

Summary: EPA does not object to the proposed action. Rating LO.

EIS No. 20080222, ERP No. D-COE-E39074-FL, South Florida Water Management District (SFWMD) Project, Propose to Construct and Operate Stormwater Treatment Areas (STAs) on Compartment B and C of the Everglades Agriculture Area, U.S. Army COE section 404 Permit, Palm Beach and Hendry Counties, FL.

Summary: EPA is fully supportive of the construction of the proposed Stormwater Treatment Areas (STA). However, EPA expressed environmental concerns about the wetland impacts of the total STA footprints, the discharge of STA waters, and some of the assumptions and technical analyses, and requested that the Final EIS provide additional information and analyses. Rating EC2.

EIS No. 20080228, ERP No. D-AFS-L65555-WA, Republic Ranger Station Excess Residence Sale Project, Proposes to Sell a 0.72 Acre Parcel of Land with a Residential Building, Republic Ranger District, Colville National Forest, Ferry County, WA.

Summary: EPA does not object to the proposed action. Rating LO.

EIS No. 20080169, ERP No. DR-COE-K39099-CA, Berth 97-109 (China Shipping) Container Terminal Project, Construction and Operation, Issuance of Section 404 (CWA) and Section 10 Rivers and Harbor Act Permits, Port of Los Angeles, Los Angeles County, CA.

Summary: EPA expressed environmental concerns about impacts to air quality, environmental justice communities, and aquatic and biological resources. EPA recommended commitments to meet and exceed San Pedro Bay Ports Clean Air Action Plan air emission requirements, coordination with the environmental justice community to identify additional measures to offset health impacts, avoidance of fill, and development of a port-wide marine mammal vessel strike reduction program. Rating EC2.

EIS No. 20080210, ERP No. DS-FHW-F40415-IN, U.S. 31 Improvement Project (I-465 to IN 38), between I-465 North Leg and IN-38, Updated Information, NPDES Permit and U.S. Army section 10 and 404 Permits, Hamilton County, IN.

Summary: EPA expressed environmental concerns about impacts to water quality, public drinking water supplies, and streams. Rating EC2.

Final EISs

EIS No. 20080213, ERP No. F-COE-E67005-NC, PCS Phosphate Mine Continuation, New Information on Additional Alternative “L” and “M”, Proposes to Expand its Existing Open Pit Phosphate Mining Operation into a 3,412 Acre Tract, Pamlico River and South Creek, near Aurora, Beaufort County, NC.

Summary: EPA continues to have environmental objections to the applicant's proposed action (“Alternative L”) due to significant impacts to waters of the U.S. EPA believes that “Alternative S33AP” is both environmentally preferable and economically practicable; EPA also proposed modifications to Alternative L that would reduce the potential environmental impacts.

EIS No. 20080269, ERP No. FS-FHW-G40129-AR, U.S. 67 Construction, U.S. 67/167 to I-40 West/I-430 Interchange around the North Little Rock Metropolitan Area, Funding, Pulaski County, AR.

Summary: EPA does not object to the proposed project.

Dated: August 5, 2008.
Robert W. Hargrove,
Director, NEPA Compliance Division, Office of Federal Activities.

[FR Doc. E8-18314 Filed 8-7-08; 8:45 am]

BILLING CODE 6560-50-P